DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 18, 2009.

Interested persons are invited to submit written comments regarding the subject matter of the investigations to the Director, Division of Trade Adjustment Assistance, at the address shown below, not later than December 18, 2009.

The petitions filed in this case are available for inspection at the Division of Trade Adjustment Assistance, Employment and Training Administration, U.S. Department of Labor, Room N-5428, 200 Constitution Avenue, NW., Washington, DC 20210.

Signed at Washington, DC, this 19th day of November 2009.
Richard Church,
Certifying Officer, Division of Trade Adjustment Assistance.

Appendix—TAA petitions instituted between 11/9/09 and 11/13/09
TA-W | Subject firm (petitioners) | Location | Date of institution | Date of petition
72787 | Visual Systems, Inc. (Wkrs) | Milwaukee, WI | 11/09/09 | 11/06/09
72788 | Barnes Aerospace (State) | Windsor, CT | 11/09/09 | 11/06/09
72789 | The Hartford (State) | Hartford, CT | 11/09/09 | 11/06/09
72790 | AGNI GenCell, Inc. (Wkrs) | Southbury, CT | 11/09/09 | 11/03/09
72791 | Siemens Industry, Inc. (Wkrs) | Spring House, PA | 11/09/09 | 11/05/09
72792 | Big River Box, Inc. (State) | Keokuk, IA | 11/09/09 | 11/08/09
72793 | Gates Corporation (State) | Boone, IA | 11/09/09 | 11/08/09
72794 | Unitex Chemical Corporation (Wkrs) | Greensboro, NC | 11/09/09 | 11/09/09
72795 | FreightCar America (Comp) | Johnstown, PA | 11/09/09 | 11/06/09
72796 | Bar Processing Corporation (Wkrs) | Hammond, IN | 11/09/09 | 11/03/09
72797 | RadiSys Corporation (Comp) | Boca Raton, FL | 11/09/09 | 11/03/09
72798 | Barnes Aerospace (State) | East Granby, CT | 11/09/09 | 11/06/09
72799 | Chrome Craft Corporation (Union) | Highland Park, MI | 11/09/09 | 11/06/09
72800 | Cord Crafts, LLC (Wkrs) | Wharton, NJ | 11/09/09 | 11/06/09
72801 | AGI In Store (Comp) | Forest City, NC | 11/09/09 | 11/06/09
72802 | North American Enclosures, Inc. (Comp) | Central Islip, NY | 11/09/09 | 11/06/09
72803 | Latrobe Specialty Steel (Comp) | Latrobe, PA | 11/09/09 | 11/06/09
72804 | Borland Software (a Microfocus Company) (Wkrs) | Austin, TX | 11/09/09 | 11/05/09
72805 | Thyssenkrupp Waupaca, Inc. Plant 6 (Wkrs) | Etowah, TN | 11/09/09 | 11/05/09
72806 | 3M (Wkrs) | Soquel, CA | 11/09/09 | 11/03/09
72807 | ET Lowe Publishing Company (Wkrs) | Nashville, TN | 11/09/09 | 11/05/09
72808 | Comcast Cable, Inc. (Wkrs) | Beaverton, OR | 11/09/09 | 11/05/09
72809 | Kellwood (Wkrs) | New York, NY | 11/10/09 | 11/04/09
72810 | SBNA/Durez Division (Wkrs) | North Tonawanda, NY | 11/10/09 | 11/04/09
72811 | Holo-Krome Company (State) | West Hartford, CT | 11/10/09 | 11/04/09
72812 | UAW Local 900 (Wkrs) | Wayne, MI | 11/10/09 | 11/03/09
72813 | Sermatech International (Union) | Royersford, PA | 11/10/09 | 11/09/09
72814 | Ariba, Inc. (Wkrs) | Sunnyvale, CA | 11/10/09 | 11/09/09
72815 | Creekside Mushrooms Ltd. (Comp) | Worthington, PA | 11/10/09 | 11/09/09
72816 | Freudenberg (State) | Spencer, IA | 11/10/09 | 11/09/09
72817 | Powers Manufacturing Company (State) | Allison, IA | 11/10/09 | 11/09/09
72818 | Denman Tire Corporation (Union) | Leavittsburg, OH | 11/10/09 | 11/09/09
72819 | Siemens Energy and Automation, Inc. (Wkrs) | New Kensington, PA | 11/10/09 | 11/07/09
72820 | Maverick Tube, LLC (Comp) | Counce, TN | 11/10/09 | 11/09/09
72821 | Maverick Tube (Comp) | Houston, TX | 11/10/09 | 11/09/09
72822 | Maverick Tube, LLC (Comp) | Conroe, TX | 11/10/09 | 11/09/09
72823 | Salem Carriers (Wkrs) | Winston-Salem, NC | 11/10/09 | 11/09/09
72824 | Phasetronics, Inc. (Wkrs) | Clearwater, FL | 11/10/09 | 11/09/09
72825 | Guardian Automotive Products, Inc. (Comp) | Upper Sandusky, OH | 11/10/09 | 11/09/09
72826 | Alleson of Rochester, Inc. (Union) | Rochester, NY | 11/10/09 | 11/09/09
72827 | Detroit Heading (Union) | Madison Heights, MI | 11/10/09 | 11/09/09
72828 | Krieger-Ragsdale (Wkrs) | Evansville, IN | 11/10/09 | 11/09/09
72829 | Circuit Services World Wide (Wkrs) | Bellevue, WA | 11/10/09 | 11/09/09
72830 | ECM Transport (Wkrs) | New Kensington, PA | 11/12/09 | 11/11/09
72831 | Elite Enclosure Company, LLC. (Comp) | Fort Loramie, OH | 11/12/09 | 11/09/09
72832 | Verizon Communications, Inc. (Wkrs) | Falls Church, VA | 11/12/09 | 10/31/09
72833 | GEO Speciality Chemicals (Comp) | Deer Park, TX | 11/12/09 | 11/10/09
72834 | Cover Craft Industries (Wkrs) | Fremont, OH | 11/13/09 | 11/09/09
72835 | Maxx US Corporation (Union) | Southampton, PA | 11/13/09 | 11/03/09
72836 | Iron Mountain (State) | North Billerica, MA | 11/13/09 | 11/12/09
72837 | Heartland Drilling (Wkrs) | San Angelo, TX | 11/13/09 | 11/12/09
72838 | Will and Baumer Candle Company, LLC (Comp) | Liverpool, NY | 11/13/09 | 11/06/09
72839 | United States Bronze, Inc. (Union) | Flemington, NJ | 11/13/09 | 11/06/09
72840 | GE Oil and Gas (Comp) | Bethlehem, PA | 11/13/09 | 11/02/09
72841 | GE Oil and Gas (Comp) | Easton, PA | 11/13/09 | 11/02/09
72842 | Nabors Drilling (Wkrs) | Houston, TX | 11/13/09 | 11/12/09
72843 | HSBC (Wkrs) | London, KY | 11/13/09 | 11/12/09
72844 | Paramount Precision Products, Inc. (Comp) | Oak Park, MI | 11/13/09 | 11/06/09

[FR Doc. E9-29144 Filed 12-7-09; 8:45 am]

BILLING CODE 4510-FN-P